Proclamation 9100 of April 4, 2014

National Volunteer Week, 2014

By the President of the United States of America

A Proclamation

Through countless acts of kindness, generosity, and service, Americans recognize that we are all bound together—that we move this country forward by giving of ourselves to others and caring for those around us. Every day, Americans carry forward the tradition of service embedded in our character as a people. And as we celebrate National Volunteer Week, we embrace our shared responsibility to one another and recommit to the task of building a more perfect Union.

By performing acts of service, we can shape a Nation big enough and bold enough to accommodate the hopes of all our people. Across our country, volunteers open doors of opportunity, pave avenues of success, fortify their communities, and lay the foundation for tomorrow's growth and prosperity. They are often equipped with few resources and gain little recognition, yet because of their service, our country is a better and a stronger force for good.

My Administration is dedicated to engaging Americans through service. Through the Corporation for National and Community Service, we administer programs like AmeriCorps and Senior Corps, and we have designed innovative initiatives such as School Turnaround AmeriCorps and VetSuccess AmeriCorps. In giving their time and talent, our volunteers can learn new skills and focus their vision, energy, and passion on projects ranging from improving disaster relief, delivering better education, and assisting returning veterans and military families. And by establishing the Task Force on Expanding National Service, we are creating new opportunities to support our communities through service.

The American experience stands apart because our triumph is found in the example of our people. With unity of purpose and unmatched resolve, we confront our shared challenges as one people and emerge stronger than before. We saw this spirit in action when, in the wake of a devastating mudslide in Washington State, Americans stepped in to provide food, shelter, and support to survivors. We saw it last year when a tornado struck Moore, Oklahoma, and volunteers came together to rebuild homes, schools, and hospitals—because we are a Nation that stands with our fellow citizens as long as it takes. As we renew our commitment to each other during National Volunteer Week, I encourage you to visit www.Serve.gov to learn more about service opportunities in your area.

NOW, THEREFORE, I, BARACK OBAMA, President of the United States of America, by virtue of the authority vested in me by the Constitution and the laws of the United States, do hereby proclaim April 6 through April 12, 2014, as National Volunteer Week. I call upon all Americans to observe this week by volunteering in service projects across our country and pledging to make service a part of their daily lives.

IN WITNESS WHEREOF, I have hereunto set my hand this fourth day of April, in the year of our Lord two thousand fourteen, and of the Independence of the United States of America the two hundred and thirty-eighth.

[FR Doc. 2014-08134

Filed 4-8-14; 11:15 am]

Billing code 3295-F4